COUNCIL ON ENVIRONMENTAL QUALITY

[CEQ-2023-0004]

Ocean Justice Strategy

AGENCY: Council on Environmental Quality (CEQ).

ACTION: Request for information.

SUMMARY: The Council on Environmental Quality (CEQ) and Office of Science and Technology Policy (OSTP), on behalf of the Ocean Policy Committee (OPC), request input from all interested parties to inform the development of an Ocean Justice Strategy. The Ocean Justice Strategy will describe the vision, goals, and high-level objectives for coordinating and guiding ocean justice activities across the Federal Government. It may also serve as a reference for Tribal, Territorial, State, and local governments, regional management bodies, and non-governmental groups. The Ocean Justice Strategy will propose equitable and just practices to advance safety, health, and prosperity for communities residing near the ocean, the coasts, and the Great Lakes and for the whole country, now and for future generations. It builds on current Biden-Harris Administration activities and commitments aimed to advance environmental justice. Through this Request for Information (RFI), the Ocean Policy Committee seeks public input on what the vision and goals of the Ocean Justice Strategy should be and how the Federal Government can advance just and equitable access to, and management and use of, the ocean, the coasts, and the Great Lakes.

DATES: Responses are due by 11:59 p.m. Eastern Time on July 24, 2023. Submissions received after the deadline will not be taken into consideration.

ADDRESSES: You may submit comments, identified by docket number CEQ-2023-0004, using the Federal eRulemaking Portal at https://www.regulations.gov. Follow the instructions for submitting comments.

Instructions: Responding to this RFI is voluntary. You may respond to some or all of the questions in this RFI. We request that you submit only one response, and that your submission not exceed 2,500 words. For any submissions that are over 2,500 words, please consider including an executive summary of 2,500 words or fewer. Your submission should clearly indicate which question(s) you are addressing. Your response should include the name of the person(s) or organization(s) submitting it. If your response refers to studies, research, or other empirical data that are not widely published, include copies of or electronic links to the referenced materials.

Comments received will be posted without change to https://www.regulations.gov, including any personal information you provide. Do not submit any information you consider to be private information, privileged or confidential commercial or financial information, or other information the disclosure of which is restricted by statute.

FOR FURTHER INFORMATION CONTACT: De'Marcus Robinson, Ocean Policy Fellow, 202-395-5750 or De'Marcus.R.Robinson@ceq.eop.gov.

SUPPLEMENTARY INFORMATION:

Background

From the air we breathe to the food we eat, the ocean touches every aspect of our lives.¹ Coastlines are home to approximately 40 percent of the U.S. population,² and as it sustains and connects us, the ocean is woven into our cultures and communities. All people—regardless of race, background, income, ability, Tribal affiliation, or ZIP Code—should have equitable access to the benefits provided by the ocean, such as well-paying jobs, healthy and plentiful food, wetlands that protect from damaging storms, space for cultural and religious practices, multiple sources of energy, recreation, transportation, and trade. But even as many communities in the United States have thrived in recent decades, many other communities have been left behind. Communities do not share equitably in the benefits provided by the ocean or equitably bear the burden of the negative impacts of human activities associated with the ocean: climate change, sea level rise and coastal flooding, increased storm intensity, pollution, overfishing, loss of habitat biodiversity, and other threats.

¹ “Ocean” includes the open ocean, coasts, estuaries, the U.S. Arctic, the Great Lakes, and oceans and coasts surrounding the U.S. Territories.

² Office for Coastal Management, Economics and Demographics (2023), https://coast.noaa.gov/states/fast-facts/economics-and-demographics.html.

Communities with environmental justice concerns face entrenched disparities that are often the legacy of racial discrimination and marginalization, redlining, exclusionary zoning, and other discriminatory decisions or patterns. Examples of such decisions and patterns include the inequitable placement of polluting infrastructure, such as ports and landfills, and inadequate responses to natural hazards, such as storms and typhoons. Communities with a significant proportion of people who are Black, Latino, Indigenous and Native American, Asian American, Native Hawaiian, or Pacific Islander may be disproportionately impacted by these issues, as well as communities with a significant proportion of people who experience persistent poverty or other forms of social inequality. Communities experiencing environmental injustices also include geographically dispersed and mobile populations, such as migrant fishers or those who have been displaced by environmental hazards or inequitable development practices. Environmental injustices may also be cumulative and convergent as people face multiple climate and social challenges over time.

The Federal Government is dedicated to building upon and strengthening its commitment to deliver environmental justice to all communities across America. Restoring and protecting a healthy environment wherever people live, play, work, learn, grow, and worship is of the utmost importance to the Biden-Harris Administration. All communities deserve a healthy and resilient ocean, and opportunities to pursue traditional and cultural practices and participate in a sustainable blue economy where good jobs, skills training, and economic benefits are shared.

The Ocean Policy Committee, a Congressionally mandated, Cabinet-level interagency committee charged with coordinating Federal ocean policy,³ will develop an Ocean Justice Strategy in consultation with Federally recognized Tribes and input from Territorial, State, and local governments, Indigenous communities, the private sector, and the public. The Ocean Justice Strategy will aim to identify barriers and opportunities to fully integrate environmental justice principles into ocean-related activities of the Federal Government.

³ National Oceanic and Atmospheric Administration, Ocean Policy Committee (2023), https://www.noaa.gov/interagency-ocean-policy.

The Ocean Justice Strategy will: (1) assess how the Federal Government should define ocean justice; (2) describe barriers to and opportunities for ocean justice; (3) describe how ocean justice should apply to the scientific enterprise of knowledge building, including the appropriate consideration, inclusion, and application of Indigenous Knowledge; ⁴ (4) describe how ocean justice should apply to access to and management of the ocean, coasts, and Great Lakes; and (5) describe how ocean justice will be implemented by the Federal Government to build on and expand the work of Tribal, Territorial, State, and local governments, Indigenous communities, the private sector, and the public.

⁴ OSTP & CEQ, Guidance for Federal Departments and Agencies on Indigenous Knowledge (2022), https://www.whitehouse.gov/wp-content/uploads/2022/12/OSTP-CEQ-IK-Guidance.pdf [hereinafter IK Guidance].

At the Federal level, the Ocean Justice Strategy will take into account all relevant Biden-Harris Administration actions and reports, including: Executive Order 13985 of January 20, 2021 (Advancing Racial Equity and Support for Underserved Communities Through the Federal Government),⁵ Executive Order 14008 of January 27, 2021 (Tackling the Climate Crisis at Home and Abroad),⁶ Executive Order 14091 of February 16, 2023 (Further Advancing Racial Equity and Support for Underserved Communities Through the Federal Government),⁷ Executive Order 14096 of April 21, 2023 (Revitalizing Our Nation's Commitment to Environmental Justice for All),⁸ the Ocean Climate Action Plan,⁹ the National Nature Assessment,¹⁰ Opportunities to Accelerate Nature-Based Solutions,¹¹ the America the Beautiful initiative,¹² and Guidance for Federal Departments and Agencies on Indigenous Knowledge.¹³

⁵ 86 FR 7009 (Jan. 25, 2021).

⁶ 86 FR 7619 (Jan. 27, 2021).

⁷ 88 FR 10825 (Feb. 22, 2023).

⁸ 88 FR 25251 (Apr. 26, 2023).

⁹ OPC, Ocean Climate Action Plan (2023), https://www.whitehouse.gov/wp-content/uploads/2023/03/Ocean-Climate-Action-Plan_Final.pdf.

¹⁰ U.S. Global Change Research Program, National Nature Assessment, https://www.globalchange.gov/nna.

¹¹ CEQ, OSTP & the White House Office of Domestic Climate Policy, Opportunities for Accelerating Nature-Based Solutions: A Roadmap for Climate Progress (2022), https://www.whitehouse.gov/wp-content/uploads/2022/11/Nature-Based-Solutions-Roadmap.pdf.

¹² U.S. Department of the Interior, America the Beautiful, https://www.doi.gov/priorities/america-the-beautiful.

¹³ IK Guidance, supra note 5.

Questions To Inform Development of the Strategy

You may provide information on as many topics below as you choose. Clearly indicate in your submission which questions you are addressing. The OPC is seeking input from the public on the following:

• Definitions. What is ocean justice? How do you define ocean justice in the context of your community and your work?

• Barriers to Ocean Justice. What are the barriers to realizing ocean justice? What key challenges do you face in achieving ocean justice? What ocean justice challenges do you see as central to Federal Government action?

• Opportunities for Ocean Justice. What elements, activities, and components should the Ocean Justice Strategy include? What injustices related to the ocean should the Federal Government better address? What successful regional or local efforts to remedy past harms or advance ocean justice should be applied nationwide? What examples do you have of instances when the Federal Government made a just decision related to the ocean, and how might that be scaled up or broadened? What does ocean justice in Federal actions and decision-making look like in practice?

• Research and Knowledge Gaps. What are the research and knowledge gaps that we need to address for the Federal Government to create and advance an effective Ocean Justice Strategy and take equitable and ambitious action?

• Tools and Practices. How can the Federal Government harness existing environmental justice tools and practices, such as the Climate and Economic Justice Screening Tool (CEJST),¹⁴ EJ Screen,¹⁵ and EnviroAtlas,¹⁶ to answer questions about justice in ocean policy? What new tools and practices are necessary to advance ocean justice?

¹⁴ CEQ, Climate and Economic Justice Screening Tool, https://screeningtool.geoplatform.gov/.

¹⁵ U.S. Environmental Protection Agency (EPA), EJScreen: Environmental Justice Screening and Mapping Tool (2023), https://www.epa.gov/ejscreen.

¹⁶ EPA, EnviroAtlas (2023), https://www.epa.gov/enviroatlas.

• Partnerships and Collaboration. What ocean justice solutions can or should be led by non-Federal entities? Where and how can the Federal Government partner with Tribal, Territorial, State, and local governments, as well as external stakeholders across regions and sectors, to effectively remedy past harms and advance ocean justice?

• Additional Considerations. What else would you like considered in the development of the Ocean Justice Strategy?

Please note that this Federal Register notice is designed to complement existing Federal activities in this space. The OPC will consider comments submitted in response to its previous request for information on the Ocean Climate Action Plan ¹⁷ to inform the development of the Ocean Justice Strategy.

¹⁷ 87 FR 60228 (Oct 4, 2022).

Matthew Lee-Ashley,
Chief of Staff.

[FR Doc. 2023-12271 Filed 6-7-23; 8:45 am]

BILLING CODE 3325-F3-P